FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 12, 2017.

A. Federal Reserve Bank of Richmond (Adam M. Drimer, Assistant Vice President) 701 East Byrd Street, Richmond, Virginia 23261-4528. Comments can also be sent electronically to Comments.applications@rich.frb.org:

1. Pamela Fowler, Bonita Springs, Florida, individually and together as a group acting in concert with Dawneda F. Williams, Wise, Virginia; to retain voting shares of Miners and Merchants Bancorp and indirectly, retain shares of Trupoint Bank, both of Grundy, Virginia.

Board of Governors of the Federal Reserve System, May 26, 2017.
Ann E. Misback,
Secretary of the Board.

[FR Doc. 2017-11399 Filed 6-1-17; 8:45 am]

BILLING CODE 6210-01-P